DEPARTMENT OF COMMERCE

National Oceanic and Atmospheric Administration

[I.D. 102104C]

Proposed Information Collection; Comment Request; Individual Fishing Quotas for Pacific Halibut and Sablefish in the Alaska Fisheries

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 27, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Patsy A. Bearden, 907-586-7008 or patsy.bearden@noaa.gov.

SUPPLEMENTARY INFORMATION:

I. Abstract

NMFS seeks to renew a collection of information for the continued management of the Individual Fishing Quota (IFQ) Program for fixed-gear Pacific halibut and sablefish fisheries off Alaska as well as the Western Alaska Community Development Quota Program (CDQ) halibut fishery. The IFQ program allocates annual total catch limits for the halibut and sablefish fisheries among individual fishermen. The CDQ halibut program allocates annual total catch limits for the halibut fishery among individual CDQ fishermen. Fishermen are assigned Quota Shares (QS) for the fisheries, and then annually receive an IFQ and/or CDQ. Applications and reporting are require to manage and track the program.

II. Method of Collection

The information is submitted to respond to requirements set forth in a regulation. Paper applications and reports, electronic reports, and telephone calls are required from participants, and methods of submittal include Internet and facsimile transmission of paper forms.

III. Data

OMB Number: 0648-0272.

Form Number: None.

Type of Review: Regular submission.

Affected Public: Not-for-profit institutions and business or other for-profits organizations.

Estimated Number of Respondents: 6,742.

Estimated Time Per Response: 30 minutes for Application for IFQ/CDQ Landing Card; 30 minutes for Application for IFQ/CDQ Registered Buyer Permit; 1 hour for Request for Application for Quota Share, Individuals; 1 hours for Request for Application for Quota Share, Existing Corporations or Partnerships; 1 hour for Request for Application for Quota Share, Dissolved Corporations or Partnerships; 4 hours for Letter of Appeal; 30 minutes for QS/IFQ Beneficiary Designation Form; 2 hours for QS Holder: Identification of Ownership Interest; 30 minutes for Annual Updates on the Status of Corporations and Partnerships QS; 2 hours for Application for QS/IFQ Transfer Eligibility Certificate; 2 hours for Application for Transfer of QS/IFQ (includes sweep-up); 30 minutes for Application for Replacement of Certificates, Permits, or Cards; 30 minutes for Request for Automated Transaction Terminal; 6 minutes for IFQ Administrative Waiver; 12 minutes for Prior Notice of IFQ Landing; 12 minutes for electronic IFQ/CDQ Landing Report; 18 minutes for manual IFQ/CDQ Landing Report; 15 minutes for Departure Report; 12 minutes for Transshipment Authorization; 6 minutes for Dockside Sales Receipt; 200 hours for Application to Become a Community Quota Entity (CQE); 40 hours for CQE Annual Report; 30 minutes for Approval of Transfer from Governing Body; and 10 hours for Community Petition to Form Governing Body.

Estimated Total Annual Burden Hours: 12,012.

Estimated Total Annual Cost to Public: $82.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 19, 2004.
Gwellnar Banks,
Management Analyst, Office of the Chief Information Officer.

[FR Doc. 04-24005 Filed 10-26-04; 8:45 am]

BILLING CODE 3510-22-S